DEPARTMENT OF DEFENSE

Office of the Secretary

[No. DOD-2006-OS-0079]

Submission for OMB Review; Comment Request

ACTION: Notice.

The Department of Defense has submitted to OMB for clearance, the following proposal for collection of information under the provisions of the Paperwork Reduction Act (44 U.S.C. Chapter 35).

DATES: Consideration will be given to all comments received by September 25, 2006.

Title, Associated Form and OMB Number: Exceptional Family Member Program, DD Form 2792 and DD Form 2792-1, OMB Control Number 0704-0411.

Type of Request: Extension.

Number of Respondents: 43,332.

Responses Per Respondent: 1.

Annual Responses: 43,332.

Average Burden Per Response: .4991 hours.

Annual Burden Hours: 19,460.

Needs and Uses: This information collection requirement is necessary to screen members of military families to determine if they have special medical or educational conditions so that these conditions can be taken into consideration when the Service member is being assigned to a new location with his/her family. The information is used by the personnel system to identify special considerations necessary for future assignments. The DD Form 2792, Exceptional Family Member Medical Summary and DD Form 2792-1, Exceptional Family Member Educational Summary associated with this information collection, will also be used by civilian personnel offices to identify family members of civilian employees who have special needs in order to advise the civilian employee of the availability of services in the location where they will be potentially employed. Local and state school personnel will complete DD Form 2792-1 for children requiring special educational services.

Affected Public: Business or other for-profit; state, local or tribal government.

Frequency: Triennial.

Respondent's Obligation: Required to obtain or retain benefits.

OMB Desk Officer: Ms. Hillary Jaffe.

Written comments and recommendations on the proposed information collection should be sent to Ms. Jaffe at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information:

DOD Clearance Officer: Ms. Patricia Toppings.

Written requests for copies of the information collection proposal should be sent to Ms. Toppings at WHS/ESD/Information Management Division, 1777 North Kent Street, RPN, Suite 11000, Arlington, VA 22209-2133.

Dated: August 18, 2006.
Patricia L. Toppings,
Alternate OSD Federal Register Liaison Officer, Department of Defense.

[FR Doc. 06-7147 Filed 8-24-06; 8:45 am]

BILLING CODE 5001-06-M